CONSUMER PRODUCT SAFETY COMMISSION

16 CFR Chapter II

Fiscal Year 2006 Program for Systematic Review of Commission Regulations; Request for Comments and Information; Correction

AGENCY: Consumer Product Safety Commission.

ACTION: Notice of systematic review of current regulations; Correction.

SUMMARY: The Consumer Product Safety Commission is issuing this revision to correct an erroneous citation designation in the Notice of systematic review of current regulations published in the Federal Register on June 7, 2006.

FOR FURTHER INFORMATION CONTACT: Linda Edwards, Office of Hazard Identification and Reduction, U.S. Consumer Product Safety Commission, 4330 East-West Highway, Bethesda, Maryland 20814; telephone (301) 504-7535; e-mail eedwards@cpsc.gov.

Corrections

In the Federal Register of June 7, 2006, in FR Doc. E6-8763, make the following corrections on page 32882:

In the first column, in the “Summary” section, correct the second sentence of the first paragraph to read:

In fiscal year 2006, the following three regulations will be evaluated: Safety standard for matchbooks, 16 CFR part 1202; toy rattles, 16 CFR parts 1510 and 1500.18(a)(15); and baby bouncers, walker-jumpers, and baby walkers, 16 CFR part 1500.18(a)(6).

In the third column, correct the first sentence under “Toy Rattles” to read:

The standard for toy rattles appears at 16 CFR parts 1510 and 1500.18(a)(15).

Section 553(b)(3)(B) of the Administrative Procedure Act (“APA”) authorizes an agency to dispense with notice and comment procedures when the agency, for good cause, finds that those procedures are “impracticable, unnecessary, or contrary to the public interest.” This amendment corrects typographical errors and does not make any substantive change. Accordingly, the Commission finds that notice and comment on this technical correction is unnecessary.

Dated: August 7, 2006.
Todd Stevenson,
Secretary, Consumer Product Safety Commission.

[FR Doc. E6-13222 Filed 8-11-06; 8:45 am]

BILLING CODE 6355-01-P